DEPARTMENT OF HEALTH AND HUMAN SERVICES

Centers for Medicare & Medicaid Services

[Document Identifier: CMS-10718]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to pilot the collection of race and ethnicity data on Part C and D enrollment forms. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by March 14, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.html.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10718 Model Medicare Advantage and Medicare Prescription Drug Plan Individual Enrollment Request

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Model Medicare Advantage and Medicare Prescription Drug Plan Individual Enrollment Request; Use: The enrollment form is considered a “model” under Medicare regulations at §§ 422.2262 and 423.2262, for purposes of communication and marketing review and approval; therefore, MA and Part D plans are able to modify the language, content, format, or order of the enrollment form. The model enrollment form includes the minimal amount of information to process the enrollment, located in Section 1, and other limited information, in Section 2, that the sponsor is required (i.e., race and ethnicity data, accessible format preference) or chooses to provide to the beneficiary (i.e., premium payment information). The optional data elements, which aid the MA and Part D plans in processing the enrollment, is developed for efficiency for the plans. Plan sponsors can obtain information at the initial point of contact to help streamline the beneficiary's enrollment process. The optional questions include information, specific to the plan's business needs that serves to reduce overall burden and allow for timely processing of an enrollment request. All data elements in Section 2 are optional for the beneficiary to complete, but the plan will be required to have the questions on the enrollment forms. Plan enrollment will not be affected if the beneficiary does not complete this additional information.

With the long-term goal of collecting race and ethnicity data from all Medicare beneficiaries, CMS will focus initial efforts on beneficiaries who newly elect or change coverage in the Medicare Part C and D program. The detailed race and ethnicity categories collected through the demographic pilot on the enrollment form will be compliant with the 2011 HHS Data Collection Standards to provide granular information for plans and CMS to understand the diversity of the beneficiary population. The data will be used to: (1) Explore the response rate to race and ethnicity questions as a whole and how it intersects with beneficiary income and other demographics; (2) Conduct focus groups, to be approved in a separate PRA package, among non-responders to the race and ethnicity questions to understand how people who elect to not respond to the race and ethnicity questions perceive the addition of those questions on the form; (3) Continue to test CMS' race and ethnicity imputation models by adding additional race and ethnicity data to the data CMS already has; and (4) Determine the data necessary for sufficient samples sizes to conduct analyses of disaggregated race and ethnicity categories. As part of a broader health equity effort, CMS has interest in identifying patterns of differences across many key process and care outcomes by sociodemographic characteristics, including race and ethnicity. To best characterize these differences, self-reported and granular data are needed. Collecting these data will support efforts to continue to strengthen, for example, CMS OMH's stratified reporting efforts, which currently do consider quality indicators by race and ethnicity, but at present these data are not granular and not self-reported. In addition, this data will allow us to validate imputation methods CMS currently uses for race and ethnicity, to ensure that we do not rely on methodologies that unintentionally create or exacerbate disparities. To assess readiness for analysis of collected data (particularly with regard to considering sample sizes, especially of small groups), continual assessment will be required—simultaneously as enrollment happens—because readiness will depend partly on distribution of responses to these items by enrollees.

These categories are of great interest to CMS and will improve the accuracy of current data sets. We acknowledge that it may take several years of data collection to conduct other meaningful studies CMS intends to pursue that are not listed above. In addition to the aforementioned uses, CMS will ultimately use this information to: Track beneficiary enrollment, including tracking patterns in enrollment by race and ethnicity over time; to identify, monitor, and develop effective and efficient strategies and incentives to reduce and eliminate health and health care inequities; to validate existing race and ethnicity imputation methods; and to ensure that clinically appropriate and equitable care (in terms of payment, access, and quality) is consistently provided to all beneficiaries. Form Number: CMS-10718 (OMB control number: 0938-1378); Frequency: Yearly; Affected Public: State, Local, or Tribal Governments, Federal Government, Private Sector (Business or other for-profits and Not-for-profits); Number of Respondents: 80,539,628; Number of Responses: 80,539,628; Total Annual Hours: 8,567,975. (For questions regarding this collection contact Deme Umo at (410) 786-8854.).)

Dated: January 6, 2022.
William N. Parham, III,
Director, Paperwork Reduction Staff, Office of Strategic Operations and Regulatory Affairs.

[FR Doc. 2022-00375 Filed 1-11-22; 8:45 am]

BILLING CODE 4120-01-P